DEPARTMENT OF COMMERCE

Bureau of Industry and Security

15 CFR Parts 734, 736, 740, 742, 744, 762, 772, and 774

[Docket No. 220930-0204]

RIN 0694-AI94

Procedures for Access to the Public Briefing on Additional Export Controls on Certain Advanced Computing and Semiconductor Manufacturing Items

AGENCY: Bureau of Industry and Security, U.S. Department of Commerce.

ACTION: Procedures for accessing a public briefing on regulatory actions.

SUMMARY: On October 7, 2022, the Bureau of Industry and Security (BIS) placed on public display an interim final rule: “Implementation of Additional Export Controls: Certain Advanced Computing and Semiconductor Manufacturing Items; Supercomputer and Semiconductor End Use; Entity List Modification.” On October 13, 2022, Under Secretary for Industry and Security Alan F. Estevez and Assistant Secretary for Export Administration Thea D. Rozman Kendler will conduct a public briefing on the rule and associated actions. This announcement provides details on the procedures for attending the public briefing.

DATES:

Public briefing: The public briefing call will be held on October 13, 2022. The public briefing call will begin at 9 a.m. Eastern Daylight Time (EDT) local time and conclude at 10 a.m. EDT. The telephone number for attending this event will be posted on the BIS website at https://bis.doc.gov/index.php/about-bis/newsroom/2082 no later than October 7 at 5 p.m.

Deadline for submitting questions for public briefing: Questions for BIS for the public briefing may be submitted until 3 p.m. EDT on October 11, 2022.

ADDRESSES:

Submitting questions: Questions for BIS for the public briefing may be submitted in writing to OEXSsubmissions@bis.doc.gov. Please tag the questions submitted by adding “Public Briefing on China Actions” in the subject line.

Recording: Within 7 business days after the public briefing on the rule and associated actions is completed, BIS will add a link to a recording, including captioning, of the public briefing to make the recording physically accessible to people with disabilities.

FOR FURTHER INFORMATION CONTACT: Karen Nies-Vogel, Director, Office of Exporter Services, Bureau of Industry and Security, Department of Commerce, Phone: (202) 482-3811, Email: rpd2@bis.doc.gov. For emails, include “Public Briefing on China Actions” in the subject line.

SUPPLEMENTARY INFORMATION:

Background

On October 7, 2022, the Bureau of Industry and Security (BIS) placed on public display an interim final rule: “Implementation of Additional Export Controls: Certain Advanced Computing and Semiconductor Manufacturing Items; Supercomputer and Semiconductor End Use; Entity List Modification” (October 7 rule). That rule amends the Export Administration Regulations (EAR) to implement controls on advanced computing integrated circuits (ICs), computer commodities that contain such ICs, and certain semiconductor manufacturing items. Additionally, the rule expands controls on transactions involving items for supercomputer and semiconductor manufacturing end uses, for example, it expands the scope of foreign-produced items subject to license requirements for twenty-eight existing entities on the Entity List that are located in the Peoples' Republic of China (PRC, China). The rule also informs the public that specific activities of “U.S. persons” that ‘support’ the “development” or “production” of certain ICs in the PRC require a license.

Advanced computing commodities and supercomputers, in which ICs are an essential component, can be used for purposes detrimental to U.S. national security and foreign policy interests, including for weapons of mass destruction, military modernization, and human rights abuses. Certain semiconductor manufacturing equipment is needed to develop, produce, or use ICs. With the October 7 rule, BIS addresses these concerns by:

(1) Adding certain advanced and less advanced computing chips and computer commodities that contain such chips to the Commerce Control List (CCL);

(2) Adding new license requirements for items destined for supercomputer and semiconductor end use in China;

(3) Expanding the scope of foreign-produced advanced computing items and foreign-produced items for supercomputer end uses subject to the EAR;

(4) Expanding the scope of foreign-produced items subject to license requirements for twenty-eight existing entities on the Entity List that are located in China;

(5) Adding certain semiconductor manufacturing equipment to the CCL;

(6) Adding new license requirements for items destined to a semiconductor fabrication “facility” in China that fabricates ICs meeting specified criteria;

(7) Adding new license requirements for items used in the “development” or “production” of semiconductor manufacturing equipment and related items in China; and

(8) Informing the public that specific activities of “U.S. persons” that ‘support’ the “development” or “production” of certain ICs in the PRC require a license.

Lastly, to minimize the short term impact on the semiconductor supply chain from this rule, BIS is establishing a Temporary General License to permit specific, limited manufacturing activities in China related to items destined for use outside China and is identifying a model certificate that may be used in compliance programs to assist, along with other measures, in conducting due diligence.

Scope of the Briefing and Process for Submitting Questions

The briefing conducted by Under Secretary Estevez and Assistant Secretary Kendler will address important aspects of the October 7 interim final rule and associated actions. The October 7 interim final rule is open for a sixty-day public comment until the date specified in the DATES section of the interim final rule.

Note that no verbal public comments will be accepted during the public briefing, which will be held virtually via audio only. Questions for BIS may be submitted in writing to OEXSsubmissions@bis.doc.gov until 3 p.m. EDT on October 11, 2022. Please tag the questions submitted by adding “Public Briefing on China Actions” in the subject line. Such questions will be addressed as time and subject matter permit.

Process for Submitting Comments on the Interim Final Rule

Written comments on the rule must be received by BIS no later than the date specified in the DATES section of the October 7 interim final rule: Implementation of Additional Export Controls: Certain Advanced Computing and Semiconductor Manufacturing Items; Supercomputer and Semiconductor End Use; Entity List Modification. See the ADDRESSES section of the interim final rule for instructions on submitting written comments.

Matthew S. Borman,
Deputy Assistant Secretary for Export Administration.

[FR Doc. 2022-22037 Filed 10-7-22; 11:15 am]

BILLING CODE 3510-33-P